DEPARTMENT OF COMMERCE

National Oceanic and Atmospheric Administration

[RTID 0648-XA800]

Marine Mammals and Endangered Species

AGENCY: National Marine Fisheries Service (NMFS), National Oceanic and Atmospheric Administration (NOAA), Commerce.

ACTION: Notice; issuance of a permit.

SUMMARY: Notice is hereby given that a permit has been issued to the following entity under the Marine Mammal Protection Act (MMPA).

ADDRESSES: The permit and related documents are available for review upon written request via email to NMFS.Pr1Comments@noaa.gov.

FOR FURTHER INFORMATION CONTACT: Sara Young (Permit No. 24356) at (301) 427-8401.

SUPPLEMENTARY INFORMATION: Notice was published in the Federal Register on the date listed below that a request for a permit had been submitted by the below-named applicant. To locate the Federal Register notice that announced our receipt of the application and a complete description of the activity, go to www.federalregister.gov and search on the permit number provided in Table 1 below.

Table 1—Issued Permit
Permit No. | RTID | Applicant | Previous Federal Register Notice | Issuance date
24356 | 0648-XA614 | Plimsoll Productions, Whiteladies House, 51-55 Whiteladies Road, Bristol BS8 2LY, United Kingdom (Responsible Party: James Manisty) | 85 FR 70130; November 4, 2020 | December 18, 2020.

In compliance with the National Environmental Policy Act of 1969 (42 U.S.C. 4321 et seq.), a final determination has been made that the activities proposed are categorically excluded from the requirement to prepare an environmental assessment or environmental impact statement.

Authority: The requested permit was issued under the MMPA of 1972, as amended (16 U.S.C. 1361 et seq.) and the regulations governing the taking of marine mammals (50 CFR part 216).

Dated: January 6, 2021.
Julia Marie Harrison,
Chief, Permits and Conservation Division, Office of Protected Resources, National Marine Fisheries Service.

[FR Doc. 2021-00352 Filed 1-11-21; 8:45 am]

BILLING CODE 3510-22-P